DEPARTMENT OF STATE

[Public Notice: 9491]

Certification Pursuant to the Department of State, Foreign Operations, and Related Programs Appropriations Act

By virtue of the authority vested in me as the Deputy Secretary of State by Department of State Delegation of Authority 245-1, and pursuant to Section 7045(a)(3)(A) of the Department of State, Foreign Operations, and Related Programs Appropriations Act, 2016 (Div. K, Pub. L. 114-113), I hereby certify that the central government of Honduras is taking effective steps to:

• Inform its citizens of the dangers of the journey to the southwest border of the United States;

• Combat human smuggling and trafficking;

• Improve border security; and;

• Cooperate with United States government agencies and other governments in the region to facilitate the return, repatriation, and reintegration of illegal migrants arriving at the southwest border of the United States who do not qualify as refugees, consistent with international law.

This certification shall be published in the Federal Register and, along with the accompanying Memorandum of Justification, shall be reported to Congress.

Dated: March 10, 2016.
Antony J. Blinken,
Deputy Secretary of State.

[FR Doc. 2016-06309 Filed 3-18-16; 8:45 am]

BILLING CODE 4710-29-P